DEPARTMENT OF COMMERCE

National Oceanic and Atmospheric Administration

50 CFR Part 648

[Docket No. 190909-0024]

RIN 0648-BI77

Fisheries of the Northeastern United States; Habitat Clam Dredge Exemption Framework

AGENCY: National Marine Fisheries Service (NMFS), National Oceanic and Atmospheric Administration (NOAA), Commerce.

ACTION: Proposed rule; reopening of comment period.

SUMMARY: NMFS reopens the comment period on the proposed rule to implement the New England Fishery Management Council's Habitat Clam Dredge Exemption Framework Adjustment to its Fishery Management Plans that published on September 17, 2019. The New England Fishery Management Council requested the comment period be reopened due to concerns that an error in a URL in the proposed rule may have prevented some individuals from submitting comments. Reopening the comment period through November 18, 2019, and including the correct URL should ensure all interested parties are able to comment on the proposed action.

DATES: The comment period for the proposed rule published September 17, 2019 (84 FR 48899), is reopened. Public comment must be received by November 18, 2019.

ADDRESSES: You may submit comments, identified by NOAA-NMFS-2019-0043, by either of the following methods:

Electronic Submission: Submit all electronic public comments via the Federal e-Rulemaking Portal.

1. Go to https://www.regulations.gov/document?D=NOAA-NMFS-2019-0043-0001.

2. Click the “Comment Now!” icon, complete the required fields.

3. Enter or attach your comments.

—OR—

Mail: Submit written comments to Michael Pentony, Regional Administrator, National Marine Fisheries Service, Greater Atlantic Regional Fisheries Office, 55 Great Republic Drive, Gloucester, MA 01930. Mark the outside of the envelope: “Comments on the Proposed Rule for Habitat Clam Dredge Exemption Framework.”

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

A draft environmental assessment (EA) has been prepared for this action that describes the proposed measures and other considered alternatives, as well as provides an analysis of the impacts of the proposed measures and alternatives. Copies of the specifications document, including the EA and the Initial Regulatory Flexibility Analysis (IRFA), are available on request from Thomas Nies, Executive Director, New England Fishery Management Council, 50 Water Street, Mill 2, Newburyport, MA 01950. These documents are also accessible via the internet at www.nefmc.org.

Written comments regarding the burden-hour estimates or other aspects of the collection-of-information requirements contained in this proposed rule may be submitted to the Greater Atlantic Regional Fisheries Office and by email to OIRA_Submission@omb.eop.gov or fax to (202) 395-7285.

FOR FURTHER INFORMATION CONTACT: Douglas Potts, Fishery Policy Analyst, 978-281-9341.

SUPPLEMENTARY INFORMATION:

Background

The Great South Channel Habitat Management Area (GSC HMA) was created by the final rule to implement the New England Fishery Management Council's Omnibus Habitat Amendment 2 (OHA2) (83 FR 15240; April 9, 2018). The use of all mobile bottom-tending fishing gear is prohibited in the GSC HMA. The GSC HMA contains complex benthic habitat that is important for juvenile cod and other fish species, and it is susceptible to the adverse impacts of fishing gear. The OHA2 included a 1-year delay of the GSC HMA closure that allowed the surfclam fishery to continue fishing with hydraulic clam dredges in the GSC HMA. This delay was intended to give the Council time to determine if a long-term exemption is warranted. The 1-year delay ended on April 9, 2019, and the GSC HMA is now closed to all mobile bottom-tending fishing gear.

On September 17, 2019, NMFS published in the Federal Register a proposed rule to implement the Clam Dredge Exemption Framework with a 30-day comment period that closed on October 17, 2019 (84 FR 48899). Full details of the proposed measures are provided in the proposed rule and are not repeated here. Subsequently, NMFS received a request from the Council to extend the comment period due to concerns that an error in a URL in the proposed rule may have prevented some individuals from submitting comments. NMFS is reopening the comment period on the proposed rule through November 18, 2019, and is including the correct URL to ensure all interested partied have an opportunity to submit comments. Comments submitted during the prior comment period have been incorporated into the public record, and will be fully considered during the preparation of our final determination.

Dated: October 25, 2019.
Samuel D. Rauch III,
Deputy Assistant Administrator for Regulatory Programs, National Marine Fisheries Service.

[FR Doc. 2019-23768 Filed 11-1-19; 8:45 am]

BILLING CODE 3510-22-P